DEPARTMENT OF DEFENSE

Department of the Army; Corps of Engineers

Intent To Prepare a Draft Environment Impact Statement (DEIS) for a Proposed Highway Between Bush, LA and I-12, in St. Tammany Parish

AGENCY: Department of the Army, U.S. Army Corps of Engineers, DoD.

ACTION: Notice of intent.

SUMMARY: The U.S. Army Corps of Engineers, New Orleans District, Regulatory Branch has received a request for Department of the Army authorization from the Louisiana Department of Transportation and Development to construct a modern, high-speed, 4-lane arterial highway from the southern terminus of the current modern 4-lane arterial portion of LA 21 in Bush, LA to I-12 in St. Tammany Parish, a distance of between 17.4 and 21 miles. The project proposes work in wetlands and structural crossings of various waterways in the project area. The EIS will be used to ensure compliance with the National Environmental Policy Act (NEPA), to determine the least damaging, yet practicable alternative and as a basis for the permit decision.

FOR FURTHER INFORMATION CONTACT: Questions about the proposed action and Draft EIS should be directed to: Dr. James A. Barlow, Jr. at (504) 862-2250, New Orleans District, Corps of Engineers, CEMVN ODS, PO Box 60267, New Orleans, LA 70160.

SUPPLEMENTARY INFORMATION: 1. Briefly describe the proposed action. The proposed project would be designed as a rural arterial highway (RA-3) with a posted speed limit of 65 mph. The exception to this design would be as the proposed project transitions into exiting roadways. The typical cross section will have two, 12-foot travel lanes, an 8-10 foot outside shoulder and a 4-foot inside shoulder in each direction. The median width would vary depending upon highway design class used ranging between 42 and 60 feet, and a minimum right-of-way (ROW) dependent upon what is needed for the design. The initial analysis assumed a minimum of 250 feet. To assure an adequate foundation, existing soils may be excavated and hauled-in earthen fill obtained from an undisclosed source deposited to elevate the highway embankment over natural grades. Roadway embankments would be sloped with inside slopes of approximately 6:1 for 26 feet from edge of shoulder and then 4:1 thereafter. Roadside ditches would be constructed as required to reduce ponding along the roadway. A typical design of the ditch would be 4 feet below existing grade with a width of 4 feet. Ditches would be employed to divert surface flow to structural highway crossings as required. Drainage structures would be identified so as to have no net impact on the drainage of the area when considering peak run-off flows during the 10-, 50-, and 100-year storms at each of these locations. Drainage structures could include bridges, reinforced concrete boxes, and/or reinforced concrete pipes depending on the flow to be passed through the structure. Limiting access to only existing state highways (LA 1088, LA 36, LA 435 and LA 21/40/41) has been proposed on at least one alternative in response to concerns regarding cumulative effects of the proposed project. No other mitigative measures to avoid or minimize project impacts on the natural, social and physical environments are included in the applicant's project design.

The applicant has stated that the proposed project is needed as an alternative North-South connection that would potentially reduce congestion and delays for those traveling from Northern St. Tammany and Washington Parishes to I-12. The proposed project could increase safety by reducing the amount of traffic on existing routes (LA 41 and LA 21/LA 59/US 190) and thereby reducing the potential for accidents. Additionally, the resulting travel time savings would help support/enhance potential economic development in North St. Tammany and Washington Parishes. Finally, the applicant is obliged to construct a 4-lane or more highway from Bush, LA to I-12, to comply with Louisiana Revised Statute (R.S.) 47:820.2.B (e).

The proposed project would adversely affect wetlands, which are regulated by the Corps, and requires a permit pursuant to Section 10 of the Rivers and Harbors Act of March 3, 1899 and Section 404 of the Clean Water Act. Because the proposed project would require federal involvement, it is subject to NEPA. The Corps prepared an environmental assessment that documented potential direct, secondary and cumulative adverse affects the proposed project would have on the social, physical and natural environments of the project area. Information used in the preparation of the EA was developed by the applicant and/or independently by the Corps. The Corps concluded that the proposed project had the potential for significant impacts to the human, natural and physical environments. The National Environmental Policy Act (NEPA) requires the preparation of an EIS for proposals that are subject to federal funding, control, responsibility and permitting, and which have the potential for significant impacts.

2. Briefly describe reasonable alternatives. The basic purpose of the proposed project is to provide for regional transportation needs. As such, the proposed project does not require siting within a special aquatic site to fulfill its basic purpose and therefore practicable alternatives that do not involve special aquatic sites are presumed to be available, unless clearly demonstrated otherwise. Including the “no build” alternative the applicant evaluated 18 alternatives. Based on information provided by the applicant, all alternatives considered could potentially impact special aquatic sites over which the Corps has jurisdiction. Rough estimates of potential direct wetland impacts range from 75 to 475 acres. The applicant also determined that all alternatives were practicable based on cost, existing technology, and logistics. However, in light of the applicant's project purposes, the applicant deemed only six alternatives to be practicable.

3. Briefly describe the Corps' scoping process which is reasonably foreseeable for the DEIS under consideration. The description:

a. The Corps invites full public participation to promote open communication on the issues surrounding the proposal. All Federal, State, and local agencies, and other persons or organizations that have an interest are urged to participate in the NEPA scoping process. A public meeting will be held to help identify significant issues and to receive public input and comment into the scoping process.

b. The DEIS will analyze the potential social, economic, and natural environmental impacts to the local area resulting from the proposed project. Specifically, the following major issues will be analyzed in depth in the DEIS: drain patterns, air quality, water quality, suspended particulates/turbidity, flood control functions, special aquatic sites, fish and wildlife habitat, endangered or threatened species, biological availability of possible contaminants, floodplain use, aesthetics, traffic/transportation patterns, land use changes, economic impacts, public safety, noise, consideration of private property, cultural resources, alternatives, secondary and cumulative impacts, environmental justice (effect on minorities and low income groups), and protection of children (Executive Order 13045).

c. The Corps will serve as the lead Federal agency in the preparation of the DEIS. It is anticipated that the following agencies will be invited and will accept cooperating agency status for the preparation of the DEIS: U.S. Environmental Protection Agency and U.S. Department of the Interior, Fish and Wildlife Service.

d. The Corps will use a “third party contractor” to prepare all or part of the EIS or to obtain required information (40 CFR 1500-1508). “Third party contract” refers to the preparation of an EIS by a contractor paid by the applicant but who is selected and supervised directly by the district engineer. Contractor election by the Corps for a Regulatory Program EIS will be as follows: The Corps will select from the applicant's list the first contractor that is fully acceptable to the Corps, using the applicant's order of preference; this selection is finalized by the applicant's selection of the same contractor. The procedures outlined in 40 CFR 1500-1508 and CEQ's forty questions must be followed. Furthermore, the Corps is responsible for final acceptance of the draft and final EIS.

4. The date, time and location of the scoping meeting have not been determined. The public will be notified of the scoping meeting information by separate public notice posted on the New Orleans District web page (http://www.mvn.usace.army.mil/ops/regulatory/publicnotices.asp).

5. The earliest that the DEIS is expected to be available for public review is January of 2010.

Brenda S. Bowen,
Army Federal Register Liaison Officer.

[FR Doc. E8-27438 Filed 11-18-08; 8:45 am]

BILLING CODE 3720-58-P